DEPARTMENT OF THE INTERIOR

Bureau of Land Management

[WY-921-5440-EU-K054; WYW 150996]

Realty Action; Conveyance of Public Lands; Wyoming

AGENCY: Bureau of Land Management, Interior.

ACTION: Notice of realty action; airport conveyance to the City of Worland.

SUMMARY: The following public lands in Washakie County have been found suitable for conveyance to the City of Worland for airport purposes under the Act of May 24, 1928, as amended and 49 U.S.C. 47125 (2000).

Sixth Principal Meridian

T. 46 N., R. 92 W.,

Sec. 19, lots 7 and 12.

The above land contains 80.00 acres.

FOR FURTHER INFORMATION CONTACT: Tamara Gertsch, Wyoming State Office, BLM, P.O. Box 1828, Cheyenne, Wyoming 82003, 307-775-6115.

SUPPLEMENTARY INFORMATION: Conveyance of the lands is consistent with applicable Federal and county land use plans and will help meet the needs of Washakie County residents. Under this conveyance Runway 16-34 at the Worland Municipal Airport will be extended for safety purposes.

The conveyance will contain reservations to the United States for ditches, canals and all minerals. The patent will also be issued subject to the existing rights of record including a right-of-way, WYW 81769, issued to the BLM for road purposes; a right-of-way, WYW 144842, issued to Apache Corporation for road purposes; a right-of-way, WYW 84684, issued to El Paso Production Company for road purposes; and a right-of-way, WYW 81774, issued to Continental Resources for road purposes. Additionally, the patent would be subject to the continued grazing use of Roalene Redland-McCarthy under grazing permit GR-491043, until April 17, 2004. Specific covenants required by the Federal Aviation Administration will also be included in the conveyance and are available by contacting the office listed below.

The conveyance is consistent with the Washakie Resource Management Plan. The land is not required for any other Federal purpose.

Upon publication of this notice in the Federal Register, the above described land will be segregated from all forms of appropriation under the public land laws, including the general mining laws, except applications for airport purposes and leasing under the mineral leasing laws.

For a period of 45 days from the date of publication of this notice in the Federal Register, interested parties may submit comments to the BLM, Branch of Fluid Minerals, Lands, & Appraisal, (Attn: Tamara Gertsch), Wyoming State Office, P.O. Box 1828, Cheyenne, Wyoming 82003. Any adverse comments will be evaluated by the State Director, who may sustain, vacate, or modify this realty action. In the absence of any objection, this proposed realty action will become final.

Dated: December 30, 2002.
Melvin Schlagel,
Realty Officer.

[FR Doc. 03-4180 Filed 2-20-03; 8:45 am]

BILLING CODE 4210-22-P